Proclamation 7649 of February 28, 2003

Irish-American Heritage Month, 2003

By the President of the United States of America

A Proclamation

From the earliest days of our Republic, America has inspired the hopes and dreams of countless individuals from around the world who have come to share in our gifts of freedom, justice, and opportunity. During Irish-American Heritage Month, we celebrate the contributions of these talented and industrious citizens and recognize their rich legacy of ingenuity, creativity, and achievement.

Throughout our history, America has welcomed millions of Irish immigrants to its shores. These proud people arrived seeking a better life for themselves, their families, and future generations. Many courageous individuals came during the terrible years of Ireland's Great Famine in the middle of the 19th century, and their road to prosperity was not easy. Many faced significant obstacles, including discrimination and poverty. Despite these challenges, Irish Americans have risen to success in every sector of our society.

Americans of Irish descent have played a vital role in shaping our history and culture. Nineteen Presidents of the United States have claimed Irish heritage. One-third to one-half of the American troops during the Revolutionary War and 9 of the 56 signers of the Declaration of Independence were Irish Americans. Irish Americans explored our frontiers, built many of our Nation's bridges, canals, and railroads, and their proud record of public service helped to fortify our democracy.

In all areas of American life, Irish Americans have made significant and enduring contributions to our great country. America is a better Nation because of the efforts of Irish Americans like Henry Ford, who spurred innovation; Bing Crosby, who entertained countless people around the world; and activist Mary Kenney O'Sullivan, who worked for critical and compassionate social reform. These individuals are just a few of the many Irish Americans who helped to transform our national identity and whose accomplishments reflect the determination, joy, and hope of the Irish. The faith, perseverance, and spirit of the Irish have helped to strengthen our families, our communities, our ideals, and our national character.

Today, approximately one in four Americans can trace their ancestry in part to Ireland's green shores, and we are proud of and grateful for the many Irish Americans who continue to enrich our country.

NOW, THEREFORE, I, GEORGE W. BUSH, President of the United States of America, by virtue of the authority vested in me by the Constitution and laws of the United States, do hereby proclaim March 2003 as Irish-American Heritage Month. I call upon all Americans to observe this month by learning about and commemorating the contributions of Irish Americans to our Nation.

IN WITNESS WHEREOF, I have hereunto set my hand this twenty-eighth day of February, in the year of our Lord two thousand three, and of the Independence of the United States of America the two hundred and twenty-seventh.

B

[FR Doc. 03-5369

Filed 3-4-03; 9:11 am]

Billing code 3195-01-P